DEPARTMENT OF COMMERCE

International Trade Administration

[A-570-893]

Certain Frozen Warmwater Shrimp From the People's Republic of China (“PRC”): Extension of Time Limit for Preliminary Results of 2004/2005 New Shipper Review

AGENCY: Import Administration, International Trade Administration, Department of Commerce.

EFFECTIVE DATE: March 28, 2006.

FOR FURTHER INFORMATION CONTACT: Alex Villanueva or Javier Barrientos; AD/CVD Operations, Office 9, Import Administration, International Trade Administration, U.S. Department of Commerce, 14th Street and Constitution Avenue, NW., Washington, DC 20230; telephone: (202) 482-3208 and (202) 482-2243, respectively.

SUPPLEMENTARY INFORMATION:

Background

On February 1, 2005, the Department of Commerce (“the Department”) published in the Federal Register an antidumping duty order covering certain frozen warmwater shrimp from the People's Republic of China (“PRC”). See Notice of Amended Final Determination of Sales at Less Than Fair Value and Antidumping Duty Order: Certain Frozen Warmwater Shrimp From the People's Republic of China, 70 FR 5149 (February 1, 2005). The Department received a timely request from Zhanjiang Regal Integrated Marine Resources Co., Ltd. (“Regal”), in accordance with 19 CFR 351.214(c), for a new shipper review of the antidumping duty order on certain frozen warmwater shrimp from the PRC, which has a February annual anniversary month and an August semi-annual anniversary month. On September 30, 2005, the Department initiated a review with respect to Regal. See Certain Frozen Warmwater Shrimp From the People's Republic of China: Initiation of New Shipper Review, 70 FR 58679 (October 7, 2005).

The Department has issued its antidumping duty questionnaire and supplemental questionnaires to Regal. The deadline for completion of the preliminary results is currently March 29, 2006.

Extension of Time Limits for Preliminary Results

Section 751(a)(2)(B)(iv) of the Tariff Act of 1930, as amended (“the Act”), and 19 CFR 351.214(i)(1) require the Department to issue the preliminary results of a new shipper review within 180 days after the date on which the new shipper review was initiated and final results of a review within 90 days after the date on which the preliminary results were issued. The Department may, however, extend the deadline for completion of the preliminary results of a new shipper review to 300 days if it determines that the case is extraordinarily complicated. See 19 CFR 351.214(i)(2).

Pursuant to section 751(a)(2)(B)(iv) of the Act and 19 CFR 351.214(i)(2), the Department determines that this review is extraordinarily complicated. Specifically, the Department requires additional time to analyze all questionnaire responses and to conduct verification of the responses submitted, as well as to examine whether Regal's U.S. sale was made on a bona fide basis. Additionally, there are complicated issues surrounding the Department's calculation of normal value, particularly with respect to the valuation of shrimp farming inputs. Based on the timing and complexity of the case, the preliminary results of this new shipper review cannot be completed within the statutory time limit of 180 days. Accordingly, the Department is extending the time limit for the completion of the preliminary results by 90 days to June 27, 2006, in accordance with section 751(a)(2)(B)(iv) of the Act and 19 CFR 351.214(i)(2). The final results, in turn, will be due 90 days after the date of issuance of the preliminary results, unless extended.

We are issuing and publishing this notice in accordance with sections 751(a)(1), 751(a)(2)(B), and 777(i)(1) of the Act.

Dated: March 22, 2006.
Stephen J. Claeys,
Deputy Assistant Secretary for Import Administration.

[FR Doc. E6-4483 Filed 3-27-06; 8:45 am]

BILLING CODE 3510-DS-S